Executive Order 14183 of January 27, 2025

Prioritizing Military Excellence and Readiness

By the authority vested in me as President by the Constitution and the laws of the United States of America, and as Commander in Chief of the Armed Forces of the United States, and to ensure the readiness and effectiveness of our Armed Forces, it is hereby ordered:

Section 1. Purpose. The United States military has a clear mission: to protect the American people and our homeland as the world's most lethal and effective fighting force. Success in this existential mission requires a singular focus on developing the requisite warrior ethos, and the pursuit of military excellence cannot be diluted to accommodate political agendas or other ideologies harmful to unit cohesion.

Recently, however, the Armed Forces have been afflicted with radical gender ideology to appease activists unconcerned with the requirements of military service like physical and mental health, selflessness, and unit cohesion. Longstanding Department of Defense (DoD) policy (DoD Instruction (DoDI) 6130.03) provides that it is the policy of the DoD to ensure that service members are “[f]ree of medical conditions or physical defects that may reasonably be expected to require excessive time lost from duty for necessary treatment or hospitalization.” As a result, many mental and physical health conditions are incompatible with active duty, from conditions that require substantial medication or medical treatment to bipolar and related disorders, eating disorders, suicidality, and prior psychiatric hospitalization.

Consistent with the military mission and longstanding DoD policy, expressing a false “gender identity” divergent from an individual's sex cannot satisfy the rigorous standards necessary for military service. Beyond the hormonal and surgical medical interventions involved, adoption of a gender identity inconsistent with an individual's sex conflicts with a soldier's commitment to an honorable, truthful, and disciplined lifestyle, even in one's personal life. A man's assertion that he is a woman, and his requirement that others honor this falsehood, is not consistent with the humility and selflessness required of a service member.

For the sake of our Nation and the patriotic Americans who volunteer to serve it, military service must be reserved for those mentally and physically fit for duty. The Armed Forces must adhere to high mental and physical health standards to ensure our military can deploy, fight, and win, including in austere conditions and without the benefit of routine medical treatment or special provisions.

Sec. 2. Policy. It is the policy of the United States Government to establish high standards for troop readiness, lethality, cohesion, honesty, humility, uniformity, and integrity. This policy is inconsistent with the medical, surgical, and mental health constraints on individuals with gender dysphoria. This policy is also inconsistent with shifting pronoun usage or use of pronouns that inaccurately reflect an individual's sex.

Sec. 3. Definitions. The definitions in the Executive Order of January 20, 2025 (Defending Women from Gender Ideology Extremism and Restoring Biological Truth to the Federal Government) shall apply to this order.

Sec. 4. Implementation. (a) Within 60 days of the date of this order, the Secretary of Defense (Secretary) shall update DoDI 6130.03 Volume 1 (Medical Standards for Military Service: Appointment, Enlistment, or Induction (May 6, 2018), Incorporating Change 5 of May 28, 2024) and DoDI 6130.03 Volume 2 (Medical Standards for Military Service: Retention (September 4, 2020), Incorporating Change 1 of June 6, 2022) to reflect the purpose and policy of this Order.

(b) The Secretary shall promptly issue directives for DoD to end invented and identification-based pronoun usage to best achieve the policy outlined in section 2 of this order.

(c) Within 30 days of the date of this order, the Secretary shall:

(i) identify all additional steps and issue guidance necessary to fully implement this order; and

(ii) submit to the President through the Assistant to the President for National Security Affairs a report that summarizes these steps.

(d) Absent extraordinary operational necessity, the Armed Forces shall neither allow males to use or share sleeping, changing, or bathing facilities designated for females, nor allow females to use or share sleeping, changing, or bathing facilities designated for males.

(e) Within 30 days of the issuance of the respective updates, directives, and guidance under subsections (a), (b), and (c) of this section, the Secretary of Homeland Security shall, with respect to the Coast Guard, issue updates, directives, and guidance consistent with the updates, directives, and guidance issued under subsections (a), (b), and (c) of this section.

Sec. 5. Implementing the Revocation of Executive Order 14004. (a) Pursuant to the Executive Order of January 20, 2025 (Initial Rescissions of Harmful Executive Orders and Actions), Executive Order 14004 of January 25, 2021 (Enabling All Qualified Americans To Serve Their Country in Uniform), has been revoked. Accordingly, all policies, directives, and guidance issued pursuant to Executive Order 14004 shall be rescinded to the extent inconsistent with the provisions of this order.

(b) The Secretary and, with respect to the Coast Guard, the Secretary of Homeland Security, shall take all necessary steps to implement the revocations described in subsection (a) of this section and ensure that all military departments and services fully comply with the provisions of this order.

Sec. 6. Severability. If any provision of this order, or the application of any provision to any person or circumstance, is held to be invalid, the remainder of this order and the application of its provisions to any other persons or circumstances shall not be affected thereby.

Sec. 7. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 27, 2025.

[FR Doc. 2025-02178

Filed 1-31-25; 8:45 am]

Billing code 3395-F4-P